DEPARTMENT OF COMMERCE

National Oceanic and Atmospheric Administration

Agency Information Collection Activities; Submission to the Office of Management and Budget (OMB) for Review and Approval; Comment Request; NOAA Financial Assistance Performance Progress Reports

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 21, 2021 (86 FR 27561—0648-0718) and June 8, 2021 (86 FR 30444—0648-0472) during a 60-day comment period. This notice allows for an additional 30 days for public comments.

Agency: National Oceanic & Atmospheric Administration, Commerce.

Title: NOAA Financial Assistance Performance Progress Reports.

OMB Control Number: 0648-0718.

Form Number(s): None.

Type of Request: Regular submission [Revision of a currently approved information collection].

Number of Respondents: 445.

Average Hours per Response: Performance Progress Reports: MDP, CRCP, RC Initial Report—10 hours each; RC Semi-Annual PPR—5.5 hours; RC Administrative Progress Reports: Initial—6 hours; Semi-Annual—2.75 hours; and Final—5.5 hours.

Total Annual Burden Hours: 4,545.

Needs and Uses: This is a request for revision and extension of a currently approved information collection. The revision requests approval to merge OMB Control Number 0648-0472 (NOAA Community-based Restoration Program Progress Reports) into 0648-0718. Upon OMB approval, control number 0648-0472 will be discontinued. 0648-0718 is also being revised to add a Performance Progress Report for the Coral Reef Conservation Program (CRCP) and revise the Marine Data Program form to add an optional marine debris removal data collection page. The title of this information collection will be changed from NOAA Marine Debris Program Performance Progress Report to NOAA Financial Assistance Performance Progress Reports to encompass all collections of information under the control number.

This information collection assists the National Oceanic and Atmospheric Administration (NOAA) in the administration and evaluation of financial assistance awards made by the Coral Reef Conservation Program (CRCP), the NOAA Restoration Center (NOAA RC), and NOAA Marine Debris Program. Every year each of these programs support a variety of initiatives specific to their individual authorizations and programmatic mandates. This support is made substantially through grants and cooperative agreements, the terms and conditions of which require regular progress reporting and communication of project accomplishments to the agency. This information collection identifies what is to be provided in these reports, and aims to assist recipients in fulfilling their responsibilities in meeting interim and final progress report requirements. This information is also necessary for NOAA to effectively oversee the expenditure of public funds awarded through these programs, to ensure both cost-effectiveness and programmatic goals are met.

The NOAA RC provides technical and financial assistance to identify, develop, implement, and evaluate community-driven habitat restoration projects. Awards are made as grants or cooperative agreements under the authority of the Magnuson-Stevens Fishery Conservation and Management Act of 2006, 16 U.S.C. 1891a and the Fish and Wildlife Coordination Act, 16 U.S.C. 661, as amended by the Reorganization Plan No. 4 of 1970.

The NOAA CRCP operates under authorization from the Coral Reef Conservation Act of 2000 (16 U.S.C. 6401 et seq.). This Act was enacted on December 14, 2000, to preserve, sustain and restore the condition of coral reef ecosystems; to promote the wise management and sustainable use of coral reef ecosystems to benefit local communities and the Nation; to develop sound scientific information on the condition of coral reef ecosystems and the threats to such ecosystems; to assist in the preservation of coral reefs by supporting conservation programs, including projects that involve affected local communities and non-governmental organizations; to provide financial resources for those programs and projects; and to establish a formal mechanism for the collecting and allocating of monetary donations from the private sector to be used for coral reef conservation projects.

The NOAA Marine Debris Program (MDP) supports national and international efforts to research, prevent, and reduce the impacts of marine debris. The MDP uses partnerships with state and local agencies, tribes, non-governmental organizations, academia, and industry to investigate and solve the problems that stem from marine debris through research, prevention, and reduction activities, in order to protect and conserve our nation's marine environment and coastal economies, and to ensure navigation safety. In large part, these partnerships are made through grants, cooperative agreements, contracts, MOUs or are simply informal technical assistance arrangements. The Marine Debris Research, Prevention, and Reduction Act (33 U.S.C. 1951 et seq.) as amended by the Marine Debris Act Amendments of 2012 (Pub. L. 112-213, Title VI, Sec. 603, 126 Stat. 1576, December 20, 2012) authorizes the MDP to enter into cooperative agreements and contracts and provide financial assistance in the form of grants to carry out the purposes of the Act—namely to identify, determine sources of, assess, reduce, and prevent marine debris and its adverse impacts on the marine environment and navigation safety.

Affected Public: Individuals or households; Business or other for-profit organizations; Not-for-profit institutions; State, Local, or Tribal government.

Frequency: Variable (quarterly to semi-annually).

Respondent's Obligation: Required to Obtain or Retain Benefits.

Legal Authority: Magnuson-Stevens Fishery Conservation and Management Act of 2006, 16 U.S.C. 1891a and the Fish and Wildlife Coordination Act, 16 U.S.C. 661, as amended by the Reorganization Plan No. 4 of 1970; Coral Reef Conservation Act of 2000 (16 U.S.C. 6401 et seq.; Marine Debris Research, Prevention, and Reduction Act (33 U.S.C. 1951 et seq.) as amended by the Marine Debris Act Amendments of 2012 (Pub. L. 112-213, Title VI, Sec. 603, 126 Stat. 1576, December 20, 2012).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0718.

Sheleen Dumas,
Department PRA Clearance Officer, Office of the Chief Information Officer, Commerce Department.

[FR Doc. 2021-19265 Filed 9-3-21; 8:45 am]

BILLING CODE 3510-JE-P